DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis (BEA), Commerce.

Title: Annual Survey of U.S. Direct Investment Abroad.

Form Number(s): BE-11.

Agency Approval Number: 0608-0053.

Type of Request: Extension of a currently approved collection without any change in the substance or in the method of collection.

Burden: 118,400 hours.

Number of Respondents: 1,600.

Avg Hours Per Response: 74 hours.

Needs and Uses: The survey provides a variety of measures of the overall operations of nonbank U.S. parent companies and their nonbank foreign affiliates, including total assets, sales, net income, employment and employee compensation, taxes, research and development expenditures, and exports and imports of goods. The survey is a cut-off sample survey that covers all foreign affiliates (and their U.S. parent companies) above a size-exemption level. The sample data are used to derive universe estimates in nonbenchmark years by extrapolating forward similar data reported in the BE-10, Benchmark Survey of U.S. Direct Investment Abroad, which is taken once every five years. The data are needed to measure the size and economic significance of direct investment abroad, measure changes in such investment, and assess its impact on the U.S. and foreign economies.

The data from the survey are primarily intended as general purpose statistics. They should be readily available to answer any number of research and policy questions related to U.S. direct investment abroad. Policy areas of particular and lasting interest are trade in goods and services, employment and employee compensation, taxes, and technology.

Affected Public: Businesses or other for-profit institutions.

Frequency: Annual.

Respondent's Obligation: Mandatory.

Legal Authority: Title 22 U.S.C., sections 3101-3108, as amended.

OMB Desk Officer: Paul Bugg, (202) 395-3093.

You may obtain copies of the above information collection proposal by calling or writing Diana Hynek, Departmental Paperwork Clearance Officer, Office of the Chief Information Officer, Department of Commerce, Room 6625, 14th Street and Constitution Avenue, NW., Washington, DC 20230, or via the Internet at dHynek@doc.gov, ((202) 482-0266).

Send comments on the proposed information collection within 30 days of publication of this notice to Paul Bugg, OMB Desk Officer, via the Internet at pbugg@omb.eop.gov or by fax (202) 395-7245.

Dated: August 6, 2003.
Madeleine Clayton,
Management Analyst, Office of the Chief Information Officer.

[FR Doc. 03-20494 Filed 8-11-03; 8:45 am]

BILLING CODE 3510-06-P